DEPARTMENT OF THE INTERIOR

Bureau of Land Management

[WY-920-1320-EL, WYW155334]

Coal Lease Exploration License, WY

AGENCY: Bureau of Land Management, Interior.

ACTION: Notice of Invitation for Coal Exploration License.

SUMMARY: Pursuant to section 2(b) of the Mineral Leasing Act of 1920, as amended by section 4 of the Federal Coal Leasing Amendments Act of 1976, 90 Stat. 1083, 30 U.S.A. 201 (b), and to the regulations adopted at 43 CFR part 3410, all interested parties are hereby invited to participate with Bridger Coal Company on a pro rata cost sharing basis in its program for the exploration of coal deposits owned by the United States of America in the following-described lands in Sweetwater County, WY:

T. 22 N., R. 101 W., 6th P.M., Wyoming

Sec. 26: Lots 1-16;

Sec. 34: Lots 1-13, NE¼NW¼, NE¼SE¼, SW¼SE¼.

Containing 1,279.10 acres, more or less.

All of the coal in the above-described land consists of unleased Federal coal within the Rock Springs Known Recoverable Coal Resource Area. The purpose of the exploration program is to obtain information on the coal bearing seams and geologic formations in addition to obtaining the following characteristics: coal quality and quantity, Btu content, percent ash, percent moisture, percent sulfur and percent sodium data from the Fox Hills, Lance and/or Fort Union Formations.

ADDRESSES: The proposed exploration program is fully described and will be conducted pursuant to an exploration plan to be approved by the Bureau of Land Management. Copies of the exploration plan are available for review during normal business hours in the following offices (serialized under number WYW155334): Bureau of Land Management, Wyoming State Office, 5353 Yellowstone Road, P.O. Box 1828, Cheyenne, WY 82003; and, Bureau of Land Management, Rock Springs Field Office, 280 Highway 191 North, Rock Springs, WY 82901.

SUPPLEMENTARY INFORMATION: This notice of invitation will be published in the Rocket-Miner of Rock Springs, WY, once each week for two consecutive weeks beginning the week of March 18, 2002, and in the Federal Register. Any party electing to participate in this exploration program must send written notice to both the Bureau of Land Management and Bridger Coal Company no later than thirty days after publication of this invitation in the Federal Register. The written notice should be sent to the following addresses: Bridger Coal Company, Attn: Scott M. Child, One Utah Center, Suite 2100, 201 South Main Street, Salt Lake City, UT 84140-0021, and the Bureau of Land Management, Wyoming State Office, Branch of Solid Minerals, Attn: Julie Weaver, P.O. Box 1828, Cheyenne, WY 82003.

The foregoing is published in the Federal Register pursuant to 43 CFR 3410.2-1(c)(1).

Dated: February 15, 2002.
Phillip C. Perlewitz,
Chief, Branch of Solid Minerals.

[FR Doc. 02-7841 Filed 4-1-02; 8:45 am]

BILLING CODE 4310-22-P